DEPARTMENT OF COMMERCE

International Trade Administration

[A-570-979]

Crystalline Silicon Photovoltaic Cells, Whether or Not Assembled Into Modules, From the People's Republic of China: Postponement of Preliminary Determination of Antidumping Duty Investigation

AGENCY: Import Administration, International Trade Administration, Department of Commerce.

DATES: March 13, 2012.

FOR FURTHER INFORMATION CONTACT: Jeff Pedersen or Drew Jackson, AD/CVD Operations, Office 4, Import Administration, International Trade Administration, U.S. Department of Commerce, 14th Street and Constitution Avenue NW., Washington, DC 20230, telephone: (202) 482-2769 or (202) 482-4406, respectively.

SUPPLEMENTARY INFORMATION:

Postponement of Preliminary Determination

On November 16, 2011, the Department of Commerce (“Department”) published a notice of initiation of an antidumping duty investigation of crystalline silicon photovoltaic cells, whether or not assembled into modules, from the People's Republic of China.¹ The period of investigation is April 1, 2011, through September 30, 2011. The notice of initiation stated that, unless postponed, the Department would issue its preliminary determination for this investigation no later than 140 days after the date of the initiation in accordance with section 773(b)(1)(A) of the Tariff Act of 1930, as amended (“the Act”), and 19 CFR 351.205(b)(1). The preliminary determination of the antidumping duty investigation is currently due no later than March 27, 2012.

¹ See Crystalline Silicon Photovoltaic Cells, Whether or Not Assembled Into Modules, From the People's Republic of China: Initiation of Antidumping Duty Investigation, 76 FR 70960 (November 16, 2011).

On March 2, 2012, SolarWorld Industries America Inc. (“Petitioner”), made a timely request pursuant to section 733(c)(1) of the Act and 19 CFR 351.205(b)(2) and (e) for postponement of the preliminary determination in this investigation.² Petitioner requested a 30-day postponement of the preliminary determination in order to provide the Department with sufficient time to review the questionnaire responses and issue appropriate requests for clarification and additional information.

² See Letter from Petitioner to the Secretary of Commerce, “Crystalline Silicon Photovoltaic Cells, Whether or Not Assembled into Modules, from the People's Republic of China: Request to Extend Preliminary Determination in Antidumping Duty Investigation,” dated March 2, 2012.

Sections 733(c)(1)(B)(i) and (ii) of the Act permit the Department to extend the time limits for the preliminary determination if it concludes that the parties concerned are cooperating and determines that the case is extraordinarily complicated by reason of the number and complexity of the transactions to be investigated or adjustments to be considered, the novelty of issues presented, or the number of firms whose activities must be investigated, and additional time is necessary to make the preliminary determination. The Department may postpone making the preliminary determination under section 733(c)(1)(B) of the Act until not later than the 190th day after the date on which the administering authority initiates an investigation under section 732(c) of the Act, or an investigation is initiated under section 732(a) of the Act.³

³ See generally section 733(c)(1)(B) of the Act.

The Department has concluded that the parties concerned are cooperating with the antidumping duty investigation and the nature of this case is extraordinarily complicated. Since the initiation of this investigation, the mandatory respondents filed timely, extensive questionnaire and supplemental questionnaire responses. Further, the instant investigation involves a technologically sophisticated product that is manufactured through a complex, multi-stage production process using numerous factors of production (“FOP”). Accordingly, the methodology employed to report FOP data is inherently complex. Moreover, additional time is necessary in order to issue the preliminary determination. For the forgoing reasons, the Department determines that this investigation in extraordinarily complicated within the meaning of section 733(c)(1)(B)(i) of the Act and that a full extension of the preliminary determination is necessary.

Accordingly, in accordance with section 733(c)(1) of the Act, we are fully extending the due date for the preliminary determination to no later than 190 days after the day on which the investigation was initiated. Thus the new deadline for issuing the preliminary determination is May 16, 2012.

This notice is issued and published pursuant to section 733(c)(2) of the Act and 19 CFR 351.205(f)(1).

Dated: March 6, 2012.
Paul Piquado,
Assistant Secretary for Import Administration.

[FR Doc. 2012-6023 Filed 3-12-12; 8:45 am]

BILLING CODE 3510-DS-P